DEPARTMENT OF THE INTERIOR

Bureau of Land Management

[LLCON00000 L10200000 DF0000.LXSS080C0000]

Notice of Public Meeting, Northwest Colorado Resource Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Northwest Colorado Resource Advisory Council (RAC) will meet as indicated below.

DATES: The Northwest Colorado RAC has scheduled a meeting May 22, 2013, from 10 a.m. to 3 p.m., with a public comment period at 11 a.m. The agenda will be available before the meeting at www.blm.gov/co/st/en/BLM_Resources/racs/nwrac.html.

ADDRESSES: The meeting will be held at the White River Field Office, 220 E. Market St., Meeker, CO.

FOR FURTHER INFORMATION CONTACT: David Boyd, Public Affairs Specialist, Colorado River Valley Field Office, 2300 River Frontage Road, Silt, CO. (970) 876-9008. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Northwest Colorado RAC advises the Secretary of the Interior, through the BLM, on a variety of public land issues in northwestern Colorado.

Topics of discussion during Northwest Colorado RAC meetings may include the BLM National Sage Grouse Conservation Strategy, working group reports, recreation, fire management, land-use planning, invasive species management, energy and minerals management, travel management, wilderness, wild horse herd management, land exchange proposals, cultural resource management and other issues as appropriate.

These meetings are open to the public. The public may present written comments to the RACs. Each formal RAC meeting will also have time, as identified above, allocated for hearing public comments. Depending on the number of persons wishing to comment and time available, the time for individual oral comments may be limited.

Subcommittees under this RAC meet regarding the McInnis Canyon National Conservation Area, Kremmling Resource Management Plan revision and the White River Field Office Resource Management Plan Oil and Gas Amendment. Subcommittees report to the Northwest Colorado RAC at each council meeting. Subcommittee meetings are open to the public. More information is available at www.blm.gov/co/st/en/BLM_Resources/racs/nwrac.html.

Helen M. Hankins,
BLM Colorado State Director.

[FR Doc. 2013-07489 Filed 3-29-13; 8:45 am]

BILLING CODE 4312-JB-P